DEPARTMENT OF DEFENSE

Office of the Secretary

Defense Science Board

AGENCY: Department of Defense.

ACTION: Notice of Advisory Committee meeting date change.

SUMMARY: The Department of Defense announced a closed meeting of the Defense Science Board Task Force on Missile Defense, Phase III (Modeling and Simulation) for March 18, 2003. That meeting was rescheduled to March 27, 2003, at Strategic Analysis Inc., 3601 Wilson Boulevard, Suite 600, Arlington, VA.

Dated: March 19, 2003.
Patricia L. Toppings,
Alternate OSD Federal Register Liaison Officer, Department of Defense.

[FR Doc. 03-7097 Filed 3-25-03; 8:45 am]

BILLING CODE 5001-08-M